DEPARTMENT OF ENERGY

[FE Docket Nos. 12-73-NG, 12-161-LNG, 13-12-NG, 13-18-NG, 13-20-NG, 13-25-NG, 13-04-LNG, 13-06-LNG, 11-38-NG, 13-15-NG, 13-27-NG, 13-29-NG, 13-31-NG, 13-33-NG, 13-34-NG, 13-36-NG, 13-37-NG, 13-24-NG, 13-28-LNG, and 13-32-LNG]

Constellation Energy Commoditiesgroup, Inc., ENI USA Gas Marketing LLC, Sequent Energy Canada Corp., Alpha Gas and Electric, LLC, H.Q. Energy Services (U.S.) Inc. Nextera Energy Power Marketing, LLC, Trunkline LNG Export, LLC, Gasfin Development USA LLC, Louis Dreyfus Energy Services L.P. Fortisbc Energy Inc., Gazprom Marketing & Trading USA, Inc., Liquiline LNG Solutions Corporation, El Paso Marketing Company, L.L.C., Superior Plus Energy Services Inc., Maritimes & Northeast Pipeline, L.L.C., St. Lawrence Gas Company, Inc., Ecogas Mexico S. de R.L. de C.V., Citigroup Energy Canada ULC, Gulf LNG Energy, L.L.C., and, Logistic Energy and PetroleumServices Inc.; Orders Granting Authority To Import and Export Natural Gas, To Import Liquefied Natural Gas, To Export Liquefied Natural Gas, and Vacating Prior Authority During March 2013

AGENCY: Office of Fossil Energy, Department of Energy (DOE).

ACTION: Notice of orders.

SUMMARY: The Office of Fossil Energy (FE) of the Department of Energy gives notice that during March 2013, it issued orders granting authority to import and export natural gas and liquefied natural gas and vacating prior authority. These orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on May 6, 2013.
John A. Anderson,
Manager, Natural Gas Regulatory Activities, Office of Oil and Gas Global Security and Supply, Office of Fossil Energy.

Appendix

DOE/FE Orders Granting Import/Export Authorizations

Order No. | Date issued | FE Docket No. | Authorization holder | Description of action
3137-A | 03/05/13 | 12-73-NG | Constellation Energy Commodities Group, Inc | Order vacating blanket authority to import/export natural gas from/to Canada.
3247 | 03/05/13 | 12-161-LNG | ENI USA Gas Marketing LLC | Order granting blanket authority to export previously imported LNG by vessel.
3248 | 03/05/13 | 13-12-NG | Sequent Energy Canada Corp | Order granting blanket authority to import/export natural gas from/to Canada.
3249 | 03/05/13 | 13-18-NG | Alpha Gas and Electric LLC | Order granting blanket authority to import/export natural gas from/to Canada, to import LNG from Canada by truck, to export LNG to Canada by vessel, to export LNG to Canada by truck, and to import LNG from various international sources by vessel.
3250 | 03/05/13 | 13-20-NG | H.Q.Energy Services (U.S.) Inc | Order granting blanket authority to import/export natural gas from/to Canada/Mexico.
3251 | 03/05/13 | 13-25-NG | NextEra Energy Power Marketing, LLC | Order granting blanket authority to import/export natural gas from/to Canada.
3252 | 03/07/13 | 13-04-LNG | Trunkline LNG Export, LLC | Order granting long-term multi-contract authority to export LNG by vessel from the Lake Charles LNG Terminal to Free Trade Agreement nations.
3253 | 03/07/13 | 13-06-LNG | Gasfin Development USA, LLC | Order granting long-term multi-contract authority to export LNG by vessel from the proposed Gasfin LNG Export Project in Parish, Louisiana, to Free Trade Agreement nations.
2940-A | 03/15/13 | 11-38-NG | Louis Dreyfus Energy Services L.P | Order vacating blanket authority to import/export natural gas from/to Canada/Mexico.
3254 | 03/15/13 | 13-15-NG | FortisBC Energy Inc | Order granting blanket authority to import/export natural gas from/to Canada, and to import/export LNG from/to Canada by truck.
3255 | 03/15/13 | 13-27-NG | Gazprom Marketing & Trading USA, Inc | Order granting blanket authority to import/export natural gas from/to Canada/Mexico and to import LNG from various international sources by vessel.
3256 | 03/15/13 | 13-29-NG | Liquiline LNG Solutions Corporation | Order granting blanket authority to import/export natural gas from/to Canada/Mexico, to import LNG from Canada/Mexico by truck, to export LNG to Canada/Mexico by vessel, and to import LNG from various international sources by vessel.
3257 | 03/15/13 | 13-31-NG | El Paso Marketing Company, L.L.C | Order granting blanket authority to import/export natural gas from/to Canada/Mexico.
3258 | 03/15/13 | 13-33-NG | Superior Plus Energy Services Inc | Order granting blanket authority to import natural gas from Canada.
3259 | 03/15/13 | 13-34-NG | Maritimes & Northeast Pipeline, L.L.C | Order granting blanket authority to import/export natural gas from/to Canada.
3260 | 03/22/13 | 13-36-NG | St. Lawrence Gas Company, Inc | Order granting blanket authority to export natural gas to Canada.
3261 | 03/22/13 | 13-37-NG | Ecogas Mexico S. de R.L. de C.V | Order granting blanket authority to import natural gas from Canada and to export natural gas to Mexico.
3262 | 03/26/13 | 13-24-NG | Citigroup Energy Canada ULC | Order granting blanket authority to import/export natural gas from/to Canada.
3263 | 03/26/13 | 13-28-LNG | Gulf LNG Energy, L.L.C | Order granting blanket authority to import LNG from various international sources by vessel.
3264 | 03/26/13 | 13-32-LNG | Logistic Energy and Petroleum Services Inc | Order granting blanket authority to import LNG from various international sources by vessel.

[FR Doc. 2013-12192 Filed 5-21-13; 8:45 am]

BILLING CODE 6450-01-P